DEPARTMENT OF TRANSPORTATION

Federal Aviation Administration

14 CFR Part 39

[Docket No. 2000-NE-19-AD; Amendment 39-12792; AD 2002-13-04]

RIN 2120-AA64

Airworthiness Directives; Teledyne Continental Motors

AGENCY: Federal Aviation Administration, DOT.

ACTION: Final rule, request for comments.

SUMMARY: This amendment supersedes emergency airworthiness directive (AD) 2000-11-51 that was sent previously to all known U.S. owners and operators of Teledyne Continental Motors (TCM) O-300, IO-360, TSIO-360, and LTSIO-520-AE series reciprocating engines. That action required within 10 flight hours after receipt of that AD, replacement of certain magnetos if they fall within the specified serial number range, inspection of the removed magneto to verify that the stop pin is still in place, and, if the stop pin is not in place, inspection of the engine gear train. This amendment requires the same replacement and inspections and adds TCM C-125 and C145 series reciprocating engines to the applicability, which were inadvertently omitted from the emergency AD. This amendment is prompted by reports of engine failures on certain TCM reciprocating engines. The actions specified by this AD are intended to prevent engine failure and loss of control of the airplane due to migration of the magneto impulse coupling stop pin out of the magneto frame and into the gear train of the engine.

DATES: Effective July 12, 2002.

Comments for inclusion in the Rules Docket must be received on or before August 26, 2002.

ADDRESSES: Submit comments in triplicate to the Federal Aviation Administration (FAA), New England Region, Office of the Regional Counsel, Attention: Rules Docket No. 2000-NE-19-AD, 12 New England Executive Park, Burlington, MA 01803-5299. Comments may be inspected at this location, by appointment, between 8:00 a.m. and 4:30 p.m., Monday through Friday, except Federal holidays. Comments may also be sent via the Internet using the following address: “9-ane-adcomment@faa.gov”. Comments sent via the Internet must contain the docket number in the subject line. The service information referenced in this AD may be obtained from Teledyne Continental Motors, PO Box 90, Mobile, AL 36601; telephone (888) 200-7565. Information regarding this action may be examined at the FAA, New England Region, Office of the Regional Counsel, 12 New England Executive Park, Burlington, MA.

FOR FURTHER INFORMATION CONTACT: Michael Downs, Aerospace Engineer, Chicago Aircraft Certification Office, FAA, 2300 East Devon Avenue, Des Plaines, IL 60018; telephone (847) 294-7870, fax (847) 294-7834.

SUPPLEMENTARY INFORMATION: On June 7, 2000, the Federal Aviation Administration (FAA) issued Emergency airworthiness directive (AD) 2000-11-51, applicable to TCM O-300, IO-360, TSIO-360, and LTSIO-520-AE series reciprocating engines, which requires, within 10 flight hours after the receipt of that AD, replacement of the magneto if it falls within the specified serial number range, an inspection of the removed magneto to verify that the stop pin is still in place, and, if the stop pin is not in place, an inspection of the engine gear train. That action was prompted by reports of engine failures on certain TCM reciprocating engines. This amendment requires the same replacement and inspections and adds TCM C-125 and C145 series reciprocating engines to the applicability, which were inadvertently omitted from the emergency AD. This condition, if not corrected, could result in engine failure and subsequent loss of control of the airplane.

FAA's Determination of an Unsafe Condition and Required Actions

Since the unsafe condition described is likely to exist or develop on other engines of the same type design, this AD is being issued to prevent engine failure and loss of control of the airplane due to migration of the magneto impulse coupling stop pin out of the magneto frame and into the gear train of the engine. This requires:

• Replacement of the magneto within 10 flight hours after the effective date, of this AD, if it falls within the specified serial number range, and

• Inspection of the removed magneto to verify that the stop pin is still in place, and

• If the stop pin is not in place, inspection of the engine gear train.

Immediate Adoption of This AD

Since it was found that immediate corrective action was required, notice and opportunity for prior public comment thereon were impracticable and contrary to the public interest, and good cause existed to make the AD effective immediately on June 7, 2000 to all known U.S. owners and operators of Teledyne Continental Motors (TCM) O-300, IO-360, TSIO-360, and LTSIO-520-AE series reciprocating engines. TCM C-125 and C145 series reciprocating engines are added to the applicability, which were inadvertently omitted from the emergency AD. These conditions still exist, and the AD is hereby superseded in the Federal Register as an amendment to Section 39.13 of part 39 of the Federal Aviation Regulations (14 CFR part 39) to make it effective to all persons.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2000-NE-19-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive, Amendment 39-12792, to read as follows:

2002-13-04 Teledyne Continental Motors: Amendment 39-12792. Docket No. 2000-NE-19-AD.

Applicability

This airworthiness directive (AD) is applicable to Teledyne Continental Motors (TCM) C-125, C145, O-300, IO-360, TSIO-360, and LTSIO-520-AE series reciprocating engines with Unison Industries (Slick) Magnetos, models 6314, 6324, and 6364, with magneto serial numbers of 99110001 through 9912999 inclusive. These engines are used on, but not limited to Cessna 170, 170A, 170B, 172, 172A through 172H, 172XP, 336, 337, and T303, Beagle B242-C, Cirrus SR20 and SR22, Globe Swift GC-1A and GC-1B, Maule M4, Piper PA-28R-201T and PA-34, and Reims (Cessna) FA172, F337, and FR172.

Note 1: The magneto serial number (SN) can be found in logbooks or other maintenance records. If the magneto was installed, or if the engine was assembled new, rebuilt, or overhauled before October 31, 1999, it is likely that a suspect magneto is not installed on the engine.

Note 2: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required within 10 flight hours after the effective date of this AD, unless already done.

To prevent engine failure and loss of control of the airplane due to migration of the magneto impulse coupling stop pin out of the magneto frame and into the gear train of the engine, do the following:

Replacement of Magneto

(a) Replace any magneto that has a SN of 99110001 through 99129999, inclusive, with a magneto that does not have a serial number in that range.

Inspections

(b) Inspect each removed magneto to verify that the impulse coupling stop pin is present. If the pin is missing, do the following:

(1) For C-125, C145, O-300, IO-360, and TSIO-360 series engines, do the following:

(i) Remove magnetos, alternator or generator, and starter adapter from the accessory case.

(ii) Remove the accessory case from the crankcase and oil sump.

(iii) Visually inspect the entire engine gear train for damaged or broken gears and gear teeth.

(iv) Inspect visible portions of the engine crankcase and accessory case for damage due to the stop pin becoming lodged between the engine gear train and the crankcase or accessory case.

(v) If the accessory case is damaged, repair or replace the accessory case.

(vi) If the engine crankcase is damaged, disassemble the engine, and repair or replace the crankcase.

(vii) Inspect the oil pump drive gear teeth and inner cam gear teeth for damage. Replace any engine drive train component that has been damaged.

(viii) Replace any damaged gear, and magnaflux the mating gears using the applicable engine overhaul manual.

(2) For LTSIO-520-AE series engines, do the following:

(i) Remove the starter adapter, fuel pump, vacuum pumps, accessory drive pads, and both magnetos.

(ii) Visually inspect the entire engine gear train for damaged or broken gears and gear teeth.

(iii) If any damage has occurred, remove the engine from the airplane, disassemble the engine, and inspect it for damage. If any damage is found, repair as necessary.

(iv) Replace any damaged gear, and magnaflux the mating gears using the applicable engine overhaul manual.

(v) Inspect the interior portions of the engine crankcase for damage due to the stop pin becoming lodged between the gear train and the crankcase. If the crankcase is damaged, repair or replace the crankcase.

(c) After the effective date of this AD, do not install any Unison Industries magnetos, model 6314, 6324, or 6364 that have a SN of 99110001 through 99129999 inclusive, on any engine.

Note 3: A cross-reference for part numbers (P/N's) for Unison magneto model 6314 (TCM P/N 653271), model 6324 (TCM P/N 653292), and model 6364 (TCM P/N 649696) can be found in TCM Mandatory Service Bulletin 00-6A, dated June 8, 2000.

Alternative Methods of Compliance

(d) An alternative method of compliance or adjustment of the compliance time that provides an acceptable level of safety may be used if approved by the Manager, Chicago Aircraft Certification Office (CHIACO). Operators must submit their requests through an appropriate FAA Principal Maintenance Inspector, who may add comments and then send it to the Manager, CHIACO.

Note 4: Information concerning the existence of approved alternative methods of compliance with this airworthiness directive, if any, may be obtained from the CHIACO.

Special Flight Permits

(e) Special flight permits may be issued in accordance with §§ 21.197 and 21.199 of the Federal Aviation Regulations (14 CFR 21.197 and 21.199) to operate the aircraft to a location where the requirements of this AD can be done.

Effective Date

(f) This amendment becomes effective July 12, 2002.

Issued in Burlington, Massachusetts, on June 17, 2002.
Jay J. Pardee,
Manager, Engine and Propeller Directorate, Aircraft Certification Service.

[FR Doc. 02-16174 Filed 6-26-02; 8:45 am]

BILLING CODE 4910-13-P